DEPARTMENT OF ENERGY

Federal Energy Regulatory Commission

[Project No. 184-065]

El Dorado Irrigation District, Notice of Scoping Meetings, Site Visit, and Intent to Prepare an Environmental Impact Statement

August 17, 2000.

The Federal Energy Regulatory Commission (Commission) is reviewing the application for a new license for the El Dorado Project (FERC No. 184), which was filed on February 22, 2000. The El Dorado Project, licensed to the El Dorado Irrigation District (EID), is located on the South Fork American River, in El Dorado, Alpine, and Amador counties, California. The project occupies lands administered by the El Dorado National Forest.

The Commission intends to prepare an Environmental Impact Statement (EIS) for the El Dorado Project, which will be used by the Commission to determine whether, and under what conditions, to issue a new license for the project. To support and assist our environmental review, we are beginning the public scoping process to ensure that all pertinent issues are identified and analyzed, and that the environmental document is thorough and balanced.

We invite the participation of government agencies, non-governmental organizations, and the general public in the scoping process, and have prepared Scoping Document 1 (SD1) to provide information on the proposed project and to solicit written and verbal comments and suggestions on our preliminary list of issues and alternatives to be addressed in the EIS. The SD1 has been distributed to parties on the Service List for this proceeding, as well as other individuals and organizations that we have identified as having previously expressed an interest in this project. The SD1 is available from our Public Reference Room at (202) 208-1371. It can also be accessed online at http://rimsweb1.ferc.fed.us/rims/.

We all hold two scoping meetings to receive input on the appropriate scope of the environmental analysis. A public meeting will be held on September 20, 2000, from 7:00 to 9:00 p.m., at the County Board of Supervisors Chambers, Building A, 330 Fair Lane, Placerville, CA. The second meeting will be held on September 21, 2000, from 9:00 a.m. until noon, at the Hyatt Regency Hotel, 1209 L Street, Sacramento, CA. The public and agencies may attend either or both meetings.

At the scoping meetings, the staff will: (1) summarize the environmental issues tentatively identified for analysis in the EIS; (2) solicit from the meeting participants all available information, especially quantifiable data, on the resources at issue; (3) encourage statements from experts and the public on issues that should be analyzed in the EIS, including viewpoints in opposition to, or in support of, the staffs preliminary views; (4) determine the resource issues to be addressed in the EIS; and (5) identify those issues that require a detailed analysis, as well as those issues that do not require a detailed analysis.

The meetings will be recorded by a stenographer and will become part of the formal record for this Commission proceeding.

Individuals, organizations, and agencies with environmental expertise and concerns are encouraged to attend the meetings and assist the staff in defining and clarifying the issues to be addressed in the EIS.

The applicant and Commission staff will conduct a project site visit beginning on Tuesday, September 19 and continuing on Wednesday, September 20, 2000. We will meet at the El Dorado Project forebay recreational area in Pollock Pines on September Tuesday at 9:00 a.m. on September 19, 2000 and at the Caples Lake Resort on Highway 88 at 9:00 a.m. on September 20, 2000. More information on the meetings and site visit is provided in the SD1.

Please review the SD1 and, if you wish to provide oral or written input, follow the instructions in section 3.0. Please note that scoping comments must be received by the close of business on October 23, 2000. All correspondence should clearly show at the top of the first page “El Dorado Project, FERC No. 184-065.” Address all communications to: The Secretary, Federal Energy Regulatory Commission, 888 First Street, N.E., Room 1A, Washington, DC 20426.

Please direct any questions about the scoping process to John M. Mudre at (202) 219-1208.

David P. Boergers,
Secretary.

[FR Doc. 00-21446 Filed 8-22-00; 8:45 am]

BILLING CODE 6717-01-M